DEPARTMENT OF HEALTH AND HUMAN SERVICES

Centers for Disease Control and Prevention

[60Day-24-1186; Docket No. CDC-2023-0099]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled Information Collection for Tuberculosis Data from Referring Entities to CureTB. The CureTB program works to prevent the spread of tuberculosis (TB) among people who cross international borders by providing linkage to care for patients with active/suspected TB when they leave the U.S., accurate and up-to-date information for receiving providers, motivation and resources for mobile individuals to continue care, linkage for comorbidities, and facilitation of positive outcomes and communication between partners.

DATES: CDC must receive written comments on or before February 13, 2024.

ADDRESSES: You may submit comments, identified by Docket No. CDC-2023-0099 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Information Collection for Tuberculosis Data from Referring Entities to CureTB (OMB Control No. 0920-1186, Exp. 2/29/2024)—Extension—National Center for Emerging and Zoonotic Infectious Diseases (NCEZID), Centers for Disease Control and Prevention (CDC).

Background and Brief Description

The CureTB program at CDC works to prevent the spread of tuberculosis (TB) among people who cross international borders. To reduce disease transmission and the emergence of drug-resistant TB, CureTB connects people with TB to healthcare services as they move between the United States and other countries. The program is a collaboration between CDC's Division of Global Migration Health (DGMH) and the County of San Diego's Tuberculosis Control Program. CureTB collaborates with health authorities throughout the United States and around the world to link people with TB to care at their destinations. Health departments, healthcare providers, and others seeking help in linking patients to ongoing TB care in other countries can refer patients to CureTB. CureTB has an interagency agreement with ICE (Immigration and Custom Enforcement) to refer those patients with suspected or confirmed TB when they are repatriated to their countries of origin.

CureTB collects the following types of information: (1) referring entities (referring agency and jurisdiction) information including name of referring person, telephone numbers, fax numbers, email addresses; (2) patient's name and last name(s), demographics date of birth, gender, address (U.S. and outside of the U.S), telephone numbers, email address, patient's contact persons including name and telephone number; and (3) TB clinical information, including diagnostic testing (radiology reports, laboratory testing reports, other diagnostic methods used, treatment regimen and information about comorbidities).

CDC is requesting OMB approval for an additional three years. CDC requests approval for an estimated 1,125 annual burden hours. There is not cost to respondents other than their time to participate.

Estimated Annualized Burden Hours
Type of respondents | Form name | Number of respondents | Number of responses per respondent | Average burden per response (in hours) | Total burden hours
U.S. health departments | CureTB Transnational Notification | 80 | 4 | 30/60 | 160
TB patients referred by U.S. health departments | CureTB Transnational Notification | 214 | 1 | 5/60 | 18
Tb patients referred by ICE | CureTB Transnational Notification | 587 | 1 | 45/60 | 440
TB treating physicians in new country | CureTB Clinician Public Health Department Follow-up Script | 870 | 3 | 10/60 | 435
U.S. health departments | CureTB Contact/Source Investigation (CI/CS) Notification | 20 | 5 | 30/60 | 50
U.S. health departments | CureTB Program Partner Satisfaction Assessment Questionnaire 1 | 100 | 1 | 10/60 | 17
U.S. health departments | CureTB Program Partner Satisfaction Assessment Questionnaire 2 | 50 | 1 | 6/60 | 5
Total |  |  |  |  | 1,125

Jeffrey M. Zirger,
Lead, Information Collection Review Office, Office of Public Health Ethics and Regulations, Office of Science, Centers for Disease Control and Prevention.

[FR Doc. 2023-27549 Filed 12-14-23; 8:45 am]

BILLING CODE 4163-18-P